DEPARTMENT OF ENERGY

Federal Energy Regulatory Commission

[Docket Nos. RP00-398-003 and RP01-34-005]

Overthrust Pipeline Company; Notice of Tariff Filing

March 26, 2003.

Take notice that on March 24, 2003, Overthrust Pipeline Company (Overthrust) tendered for filing as part of its FERC Gas Tariff, First Revised Volume No. 1-A , the following tariff sheets, with an effective date of April 1, 2003:

Sub. Fourth Revised Sheet No. 58

Sub. Fourth Revised Sheet No. 78E

Sub. First Revised Sheet No. 78I

Substitute Original Sheet No. 78J

Substitute Original Sheet No. 78K

Overthrust states that the filing is being made in compliance with the Commission's Order on Rehearing and Compliance Filing issued March 4, 2003 (March Order), in Docket Nos. RP00-398-001, RP00-398-002, RP01-34-003 and RP01-34-041.

In the March Order, the Commission granted in part and denied in part Overthrust's request for rehearing and granted the motion for an extension of time, and accepted all but two tariff sheets effective April 1, 2003, with conditions.

The Commission, in the March Order, directed Overthrust to make revisions to its tariff sheets and file revised tariff sheets within 20 days of the date of issuance of the order with an effective date of April 1, 2003. This filing is tendered to comply with the Commission's March Order.

Overthrust states that a copy of this filing has been served upon its customers, the Public Service Commission of Utah and the Public Service Commission of Wyoming.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 7, 2003.

Magalie R. Salas,
Secretary.

[FR Doc. 03-7869 Filed 4-1-03; 8:45 am]

BILLING CODE 6717-01-P